DEPARTMENT OF COMMERCE

Bureau of the Census

[Docket Number 001215359-0359-01]

RIN Number 0607-XX62

The Census 2000 Count Question Resolution Program

AGENCY: Bureau of the Census.

ACTION: Notice of Program.

SUMMARY: On January 22, 2001, the Bureau of the Census (Census Bureau) published in the Federal Register an initial notice relating to the Census 2000 Count Question Resolution (CQR) program (66 FR 6574). This notice provides information concerning the CQR program as well. The CQR program will address corrections for three types of challenges: (1) boundary corrections, (2) geocoding (geographic assignment) corrections, and (3) data processing corrections. (See the heading “Types of Corrections that will be Considered for the Census 2000 CQR Program” in the SUPPLEMENTARY INFORMATION section.) The CQR program is not a mechanism or process to challenge the March 6, 2001, decision of the Secretary of Commerce to release unadjusted numbers from Census 2000 for redistricting purposes; nor is it a mechanism or process to challenge or revise the numbers sent to the President on December 28, 2000, to be used to apportion the U.S. House of Representatives.

The CQR program procedures include researching challenges and, as appropriate, making corrections and issuing revised official population and housing unit counts, which also will be used for the Census Bureau's Postcensal Estimates program. Challenges will not be accepted to the overseas counts of persons in the military and federal civilian personnel stationed overseas and their dependents living with them. Overseas counts are obtained using administrative records and will be used solely for reapportioning seats in the U.S. House of Representatives, and do not provide the sub-state geographic information required for the CQR program.

The Census Bureau will only accept challenges from officials of state, local, and tribal governments or those representing them or acting on their behalf. All challenges should be sent to the Census Bureau's headquarters. (The specific mailing address and a glossary of terms are provided in the section entitled “Exhibit—Additional Information” at the end of this notice's SUPPLEMENTARY INFORMATION section.)

Corrections made to the population and housing unit counts by this program will result in the issuance of new official Census 2000 counts to the officials of governmental entities affected by these corrections and may be used by the governmental entities for future programs requiring official Census 2000 data. These corrections also will be:

• used specifically to modify the decennial census file for use in yearly postcensal estimates beginning in December 2002, and

• included in the errata information to be made available via the Internet on the American FactFinder System.

We will NOT incorporate the CQR corrections into Census 2000 data products.

All corrections will be made on the basis of appropriate documentation provided by the challenging entities and a thorough research and review of the official Census 2000 records by the Census Bureau. No additional data will be collected as part of the CQR program. We will only use data already collected. The Census Bureau will respond to all questions and will notify all affected governmental entities of any corrections to their official counts as a result of a CQR program decision.

EFFECTIVE DATE: This program will become effective on June 30, 2001, and will end on September 30, 2003.

FOR FURTHER INFORMATION: Robert A. Rinaldi, Assistant Division Chief, Decennial Management Division, Count Question Resolution, U.S. Census Bureau, Room 2002/2, 4700 Silver Hill Road, Stop 7100, Washington, DC 20233-7100. Telephone: 1-866-546-0527 (toll free); Fax: 301-763-0260; or E-mail: Count.Question.Resolution@census.gov

SUPPLEMENTARY INFORMATION:

Background Information

The Census Bureau implemented the Local Update of Census Addresses (LUCA) program for Census 2000. Participating state, local, and tribal governments were given the opportunity to review and update the Census Bureau's address list in mail response areas before it was used for the actual census enumeration. In cases where the state, local, or tribal government and the Census Bureau could not agree on the housing unit address list, the governmental unit could use an appeal process administered by the Census Address List Appeals Office. The Census Bureau also used the LUCA Special Places program to involve state, local, and tribal governments in helping to identify special places, such as college dormitories, nursing homes, and other types of group living arrangements.

Governmental units in areas where the Census Bureau used city-style addresses to mail census questionnaires, in addition to the LUCA, had another opportunity to update their Census 2000 address lists via the New Construction Program. We also conducted the Boundary Validation Program in which we provided state, local, or tribal officials with maps that showed the January 1, 2000, boundaries of their jurisdiction and asked them to make corrections, if necessary.

The Census Bureau had a number of extensive operations that afforded opportunities for additions, corrections, and deletions of census addresses and corrections of population counts. Between May and August 2000, the Coverage Edit Follow-Up Operation resolved population count discrepancies and obtained additional information on households with more than six persons. The Coverage Improvement Follow-Up (CIFU) Operation (June-August 2000) was designed to improve coverage of housing units that may have been inaccurately classified as vacant or nonexistent in an earlier census operation. Additionally, housing unit additions discovered during the Update/Leave and Urban Update/Leave questionnaire delivery operations, during periodic Delivery Sequence File updates from the United States Postal Service, and through the LUCA appeals process are enumerated in CIFU. Addresses submitted via the New Construction Program by local and tribal governments were visited by enumerators for the first time during CIFU.

During July and August 2000, the Residual Nonresponse Follow-Up Operation completed questionnaires for housing units where identification numbers existed for forms that were checked out of the Local Census Office, were not included in the CIFU, and did not have census data captured. The Field Verification Operation (July-August 2000) verified specific addresses that did not match the Decennial Master Address File. Another operation was conducted from July through August 2000, to determine the number of people in housing units that the Nonresponse Follow-Up Operation (April-June 2000) had identified as occupied, but the number of occupants were unknown.

Data collection for Census 2000 ended in the Local Census Offices on or before August 30, 2000. This schedule allowed the Census Bureau time to produce the state level apportionment counts by December 31, 2000, as required by law.

Independent of Census 2000, the Census Bureau conducted the Accuracy and Coverage Evaluation (A.C.E.) operation that included a coverage measurement survey that was expected to determine and correct for the number of people and housing units missed or erroneously included in Census 2000. This was a nationwide sample survey of about 314,000 housing units. All enumeration activities, as well as personal interview follow-ups, were completed by late November 2000.

Although many state, local, and tribal governments participated in the LUCA and New Construction programs and the Census Bureau conducted an extensive quality improvement program, the Census Bureau still expects to receive challenges after it releases the official Census 2000 housing unit and group quarters population counts contained in the Demographic Profiles, which are scheduled for release between May and July 2001. The CQR start date of June 30, 2001, also is coordinated with the release of the Summary File 1 (SF1) on a state-by-state basis between June and September 2001. The SF1 will provide block-level data containing the number of housing units. It also will show group quarters population counts by block.

State, local, and tribal government officials must contact the Census Bureau directly to initiate the challenge process. (The specific mailing address is provided in the section entitled “Exhibit—Additional Information” at the end of this notice.) The Census Bureau will accept challenges from various officials including county clerks, city planners, local planning board representatives, tribal councils, and state legislative representatives with redistricting functions within each state and state equivalents who are acting on the behalf of a state, local, or tribal entity.

Program Requirements:

Administrative Procedures Act and Regulatory Flexibility Act

This rule of agency procedure is not subject to the requirement to provide prior notice and opportunity for public comment (see 5 U.S.C. 553 (b)(A)). Because a notice of proposed rulemaking and an opportunity for public comment are not required by Title 5, United States Code (U.S.C.) 553 or any other law, a Regulatory Flexibility Analysis is not required and has not been prepared (5 U.S.C. 603 (a)).

Executive Orders

This notice has been determined to be not significant for purposes of Executive Order (E.O.) 12866. This program does not contain policies with federalism implications sufficient to warrant preparation of a federalism assessment under E.O. 13132.

Paperwork Reduction Act

Notwithstanding any other provision of law, no person is required to respond to, nor shall a person be subject to a penalty for failure to comply with, a collection of information subject to the requirements of the Paperwork Reduction Act (PRA), 44 U.S.C., chapter 35, unless that collection of information displays a current valid Office of Management and Budget (OMB) control number. In accordance with the PRA, OMB approved the survey under control number 0607-0879. The estimated burden hours are 15,600.

Types of Corrections that will be Considered for the Census 2000 CQR Program

Corrections for three types of challenges will be considered as a result of the Census 2000 CQR program. (For acceptable documentation to initiate such challenges, refer to the section “Criteria for Acceptable Documentation Necessary to Initiate the Census 2000 CQR Process.”)

(1) Boundary corrections—Census 2000 respects the proper alignment of the boundaries of actively functioning governmental units and legal administrative areas within governments as legally in effect on January 1, 2000. Census 2000 also uses the boundaries of statistical entities that serve as the surrogates for a legal entity for selected entities as submitted and verified in statistical areas programs. The Census Bureau needs to ensure that the geographic assignment information provided does not, in fact, reflect legal boundary changes made after January 1, 2000 or statistical boundary changes after verification. Problems, such as the inaccurate reporting of legal or statistical area boundaries and the inaccurate recording of such boundaries by the Census Bureau, will be addressed by the CQR program. The boundaries of other geographic areas, such as most census designated places, census tracts, voting districts, school districts, and similar areas are not in the scope of the Census 2000 CQR program. See question “3” in the section entitled “Exhibit—Additional Information” for specific information concerning the geographic entities for which challenges will be processed.

(2) Geocoding corrections—These corrections affect the placement of living quarters and associated population within the correct boundaries or census block. Even if the CQR process does not result in a change to the total count for a state, local, or tribal jurisdiction, we will send a letter to the state, local, or tribal government official with a CQR submission when the Census Bureau moves group quarters or housing units to different blocks within the jurisdiction.

(3) Data Processing corrections—This category includes data on specific living quarters and persons residing therein that were identified and collected during the Census 2000 process but erroneously included or excluded due to processing errors.

Corrected CQR counts issued will be based on the housing unit and population counts as of April 1, 2000, and may be used by governmental entities for all programs requiring official Census 2000 data. The CQR program is not a mechanism or process to challenge the March 6, 2001, decision of the Secretary of Commerce to release unadjusted numbers from Census 2000 for redistricting purposes; nor is it a mechanism or process to challenge or revise the numbers sent to the President on December 28, 2000, to be used to apportion the U.S. House of Representatives. The Census Bureau will not make corrections to the data concerning the characteristics of the population and housing inventory. The corrected counts will be reflected in the Census Bureau's decennial file modified for use in making postcensal estimates that will be released on a flow basis beginning in December 2002. An inventory of corrections also will be available on the American FactFinder Internet Data Access System (errata) and updated periodically. Base files for the Census 2000 will remain unrevised so that none of the standard Census 2000 data products will reflect the corrections.

Challenges that do not Result in Corrections

When a state, local, or tribal government provides evidence that the Census Bureau missed housing units or group quarters that existed on April 1, 2000, but the CQR research and Census 2000 records show that all of the Census Bureau's boundary information, geocoding, and processing were correctly implemented, the Census Bureau will respond by sending a letter to the official or his/her representative stating that the Census Bureau will maintain the documentation for consideration in the context of address list updating activities over the decade.

Internal Census Bureau Review

Changes to the boundaries or counts for a legal entity or statistical equivalent also may result from Census Bureau initiated research and review of census files. The Census Bureau reviews Census 2000 data by checking for data reasonableness, internal and intra-product consistency, and consistency with historical and external data sources. This review process begins with an analysis by Census Bureau staff, the federal-State Cooperative Program for Population Estimates, and others. Reviewers identify, address, and/or explain issues or problems related to coverage, content, processing, and geocoding. Unresolved potential problems will be forwarded to the CQR staff for additional analysis. Changes made as result of this internal review and/or research will be incorporated into the CQR process and documented the same as changes based on jurisdictional CQR challenges. For those cases where changes to the housing unit and/or population counts are made, new official counts will be issued to the affected jurisdictions.

Criteria for Acceptable Documentation Necessary to Initiate the Census 2000 CQR Process

The Census Bureau will require documentation before committing resources to investigate concerns raised by state, local, and tribal officials or their representatives about boundary and geographic assignment errors or the accuracy of the census housing unit or group quarters population counts. In general, when submitting a challenge, governmental entities must:

• Specify whether the challenge disputes the location of a boundary or the number of housing units and/or group quarters population counts in one or more tabulation blocks or both the boundaries and housing/unit group quarters population counts.

• For boundary disputes, indicate on a map the location of the boundary in dispute; that is, it must be shown where the Census Bureau incorrectly depicts the boundary and show the correct boundary legally in effect as of January 1, 2000, or delineated for a statistical entity for Census 2000. For those boundary disputes that also will affect housing units or group quarters population counts, the governmental unit also needs to follow the rules for those types of challenges where the new boundary splits a Census 2000 tabulation block. (For types of maps that can be used, refer to the section “Types of Acceptable Paper Maps.”)

• For housing unit challenges, identify the specific county, census tract, and Census 2000 tabulation block(s) that is being contested and provide a list of addresses of all housing units in that block on April 1, 2000. (See the section “Challenge Criteria: Housing Unit Count.”)

• For group quarters (see Census Bureau group quarters definition listed under “Definition of Key Terms”) challenges, provide the name of the group quarters and evidence, e.g., a listing of patients residing in the XYZ Nursing Home as of April 1, 2000, that supports the number of persons residing there on April 1, 2000.

Show the specific county, census tract, and Census 2000 tabulation block in which the group quarters population is being contested.

• Provide electronic or paper versions of documentation to support the challenge.

Boundary Challenge Criteria

All boundary challenges must be based on boundaries that were legally in effect on January 1, 2000, or submitted and verified as the correct boundaries of statistical areas for use in Census 2000. The Census Bureau will compare the maps and appropriate supporting documentation submitted by the challenging entity with information used by the Census Bureau to depict the boundaries for Census 2000.

Maps submitted by state, local, and tribal governments must show the correct location of the boundary and the portion of the boundary that the Census Bureau depicted incorrectly, including the county, census tract number, and Census 2000 tabulation block numbers associated with the boundary correction area. The state, local, or tribal government also should provide the Census Bureau with a list of addresses in affected tabulation blocks, indicating their location in relationship to the boundary requiring correction.

For boundary changes effected by legal actions not recorded by the Census Bureau, state and local governments must submit the effective date and ordinance number or law that resulted in the boundary change, provide evidence that the state certifying official has approved the boundary change (if a municipal boundary), and provide a statement that the boundary is not under litigation. The change also must be certified in writing, on each map, by an official of the state, local, or tribal government. Tribal governments must submit documentation of the federal law, executive order, deed of trust, or other type of legal action that effected a legal change in reservation or off-reservation trust land boundaries, and a statement that the boundary is not under litigation. Regardless of whether the Census Bureau changes boundaries or does not change boundaries as a result of the CQR evidence and the Census Bureau's research, the Census Bureau will notify the complainant and any affected adjacent governmental entity(es) of the results.

Types of Acceptable Paper Maps

• Paper Census 2000 Public Law 94-171 County Block Maps—These maps are based on a county or statistically equivalent entity and accompany the Redistricting Data Summary Files.

• Paper Census 2000 Redistricting Municipio Block Maps for Puerto Rico—These maps are municipio-based and accompany the Puerto Rico Redistricting Data File.

• Paper Census 2000 Block Maps—These are entity based maps provided to state, local, and tribal jurisdictions and show tabulation block numbers. They are a companion map for the Demographic Profiles that will contain information on population totals, including group quarters and selected population and housing characteristics.

• Paper Maps based on the 2000 TIGER/Line® File—These user-defined maps are generated by state, local, or tribal governments based on information from the Census Bureau's 2000 TIGER/Line® files using commercial geographic information systems. These maps must identify the state, county and/or statistical equivalent, census tract, tabulation block, and any other legal or statistical entity boundary or code involved in a challenge. If a challenge involves an American Indian reservation or off-reservation trust lands, the maps must identify the American Indian area, census tract, and tabulation block boundary.

• Other Paper Maps Showing Census Bureau 2000 Tabulation Block Numbers and Boundaries—These maps must identify the state, county and/or statistical equivalent, census tract, tabulation block, and any other legal or statistical entity boundary or code involved in a challenge. If a challenge involves an American Indian reservation or off-reservation trust lands, the maps must identify the American Indian area, census tract, and tabulation block boundary. In general, local-or-tribal-created paper maps should be comparable to Census 2000 maps.

Challenge Criteria

Housing Unit Count

Supporting evidence that specifically reflects the validity of any address list source must reflect residential addresses that existed as viable living quarters on April 1, 2000. Challenges to housing unit counts must specify the county or statistically equivalent entity, census tract(s), and tabulation block(s) for which the counts are being challenged.

SF1 can be used to obtain tabulation block housing unit counts. Complainants must provide a complete address list for all units that should be included in each contested block. (Refer to the section “Types of Address Lists.”)

State, local, or tribal officials must certify that the addresses on their lists existed and could be lived in on April 1, 2000. See the Census Bureau's “housing unit” definition listed under the section, “Definitions of Key Terms.”

Group Quarters Population Count

Supporting evidence should reflect the validity of any address list source dated no later than April 1, 2000. Challenges to group quarters population counts must identify the county or statistically equivalent entity, the census tract, and the tabulation block(s) for which the counts are being challenged. A group quarters is defined as a place where people live or stay other than the usual house, apartment, or mobile home. Two general types of group quarters are recognized: institutional (for example, nursing homes, mental hospitals/wards, hospital/wards for chronically ill patients, hospices, and State prisons) and noninstitutional (for example, college or university dormitories, military quarters, military barracks, group homes, and halfway houses). Special places and group quarters may have housing units on the premises for staff and/or guests.

SF1 can be used to obtain tabulation block group quarters population counts. Jurisdictions must provide a complete address list (refer to the section “Types of Address Lists”) for all group quarters units that should be included in each contested block. (For the definition of group quarters, see the section “Definitions of Key Terms.”)

The state, local, or tribal official should certify that the addresses for group quarters on their lists were viable living quarters on April 1, 2000.

Types of Address Lists

• City-Style Address Lists—These lists must contain city-style addresses (house number, street name, Post Office name, state, and ZIP Code) identifying the county or statistically equivalent entity and organized by Census 2000 tabulation block within census tract. Housing unit identifiers in multiunit buildings (such as apartment numbers) must be included, if applicable.

• Non-City-Style Address Lists—Non-city-style addresses must be keyed to the state, local, or tribal government's map-spotted maps, that is, maps that show the exact location of the housing unit. The list should be focused on the specific area and/or addresses where the problem exists. All housing units in the disputed block must be map spotted, that is, the location of each housing unit must be marked on a map with a dot and given a corresponding number for identification purposes and a description of the housing unit and location must be supplied. The following is an example of a map-spotted address and housing unit description: Map Spot 4567-01, Derby Road, 2-story house on left with red brick chimney, ½ mile from the intersection of Highways 12 and 19, Anytown, Georgia 10020.

Group Quarters Information

Provide the name, address, and telephone number for the administrative office of the facility (special place and group quarters) as of April 1, 2000. In addition, provide the county or statistically equivalent entity, census tract, and tabulation block number for the location of the group quarters.

Census Bureau Actions

The Census Bureau will investigate challenges to determine whether information about the existence of a housing unit or occupied group quarters on April 1, 2000, was identified but does not appear in the final census files due to an error in processing the information. The Census Bureau will not collect new information.

Definitions of Key Terms

American FactFinder—The generalized electronic system for access and dissemination for much of the Census Bureau's data. The system is available through the Internet and offers prepackaged data products and the ability to build custom products. The system serves as the vehicle for accessing and disseminating data from Census 2000 (as well as the 1997 Economic Censuses and the American Community Survey).

Block (census block)—A geographic area bounded on all sides by visible features such as streets, roads, streams, and railroad tracks, and occasionally by non-visible boundaries such as city, town, or county limits. Blocks do not cross census tract or block numbering area boundaries. A block is the smallest geographic entity for which the Census Bureau tabulates decennial census information.

Census Tract—A small, relatively permanent statistical subdivision of a county in a metropolitan area or a selected non-metropolitan county, delineated by a local committee of census data users for the purpose of tabulating and presenting decennial census data. Census tract boundaries normally follow visible features, but may follow governmental unit boundaries and other non-visible features. Census tracts generally contain between 1,000 and 8,000 people, and average about 1,700 housing units and 4,000 people.

Census Designated Place—A geographically defined statistical entity delineated for each decennial census according to Census Bureau guidelines comprising a densely settled concentration of population that is not incorporated or established by law but is locally recognized and identified by a name.

County—A type of governmental unit that is the primary legal subdivision of every state except Alaska and Louisiana. Alaska has boroughs, census areas, city and boroughs, and municipalities. Louisiana has parishes.

Demographic Profile—A one-page table containing data for a geographic entity that provides information on total population, sex, age, race, Hispanic or Latino origin, household relationship, group quarters population, household type, housing occupancy, and housing tenure.

Group quarters—A place where people live or stay other than the usual house, apartment, or mobile home. The Census Bureau recognizes two general types of group quarters are recognized: institutional (for example, nursing homes, mental hospitals/wards, hospital/wards for chronically ill patients, hospices, and State prisons) and noninstitutional (for example, college or university dormitories, military quarters, military barracks, group homes, and halfway houses). Special places and group quarters may have housing units on the premises for staff and/or guests.

Housing unit—A house, an apartment, a mobile home or trailer, a group of rooms, or a single room that is occupied as a separate living quarters, or, if vacant, is intended for occupancy as a separate living quarters. A housing unit is defined as a living quarters that is closed to the elements and has all exterior windows and doors installed and final usable floors in place. For vacant units, the criteria of separateness and direct access are applied to the intended occupants, whenever possible. If that information cannot be obtained, the criteria are applied to the previous occupants.

Local Census Office—A temporary Census Bureau office established for Census 2000 data collection purposes. These offices managed address listing field work, conducted local recruiting, administered census taking, and created a local presence. They were called “district office” in previous censuses.

Municipio—A primary legal subdivision of Puerto Rico (synonymous to a county).

Overseas counts—Counts of military and federal civilian personnel stationed overseas and their dependents living with them.

Postcensal Estimates—Population estimates for the years following the last published decennial census. Existing data series, such as births, deaths, federal tax returns, medicare enrollment, and immigration and housing unit information are used to update the decennial census counts during the estimating process. These estimates are used in federal funding allocations, monitoring recent demographic trends, and benchmarking many federally funded survey totals.

Public Law 94-171—The federal law amending Section 141 of Title 13 directing the Secretary of Commerce (who delegates that responsibility to the Director of the Census Bureau) to provide selected decennial census data tabulations to the states by April 1 of the year following the census. These tabulations are used by the states to redefine the areas included in each congressional district and the areas used for state and local elections, a process called redistricting.

Special Place—A place containing one or more group quarters, including hotels and campgrounds. A special place also may include housing units occupied by staff or guests.

Summary File 1—A data file that presents counts and basic cross-tabulations of information collected from all people and housing units. This information includes age, sex, race, Hispanic or Latino origin, household relationship, and whether the residence is owned or rented. Data will be available down to the block level for many tabulations, but limited to the census tract level in cases where there are concerns with disclosure. Summaries also will be included for most other geographic areas, such as places, county subdivisions, ZIP Code tabulation areas and 106th congressional districts.

Exhibit—Additional Information

This section provides additional information on how the Census 2000 CQR program will operate.

1. Where should a governmental unit submit a challenge for the Census 2000 CQR program?

Governmental units challenging the completeness or accuracy of the Census 2000 counts should submit their challenge in writing to: U.S. Census Bureau, Room 2002/2, Decennial Management Division, Count Question Resolution 4700 Silver Hill Road, Stop 7100, Washington, DC 20233-7100.

2. Will the Census Bureau make corrections to the census counts based on information submitted by governmental units?

The Census Bureau will make corrections if research indicates they are warranted. Our experience has shown that many of the questions received from the state, local, or tribal officials do not reflect errors in census counts. Questions may result from an incorrect or incomplete understanding of the procedures used to take the census. In other instances, questions about census counts reflect a state, local, or tribal official's reliance on different enumeration concepts, definitions, geographic assignments, and/or the currency of the information in comparison to the census. The Census Bureau's determination of whether a correction is necessary will be based on the quality and completeness of the information provided by state, local, and tribal governmental unit representatives and the results of the Census Bureau's review of the census records.

3. For what types of geographic entities can CQR challenge be submitted and which entities are eligible to submit a CQR challenge?

An executive official or other official acting on the behalf of a local or tribal government must submit the CQR challenge to the Census Bureau.

The Census Bureau will research and, if necessary, correct the counts for:

• Counties and statistically equivalent entities.

• Minor civil divisions.

• Incorporated places, including consolidated cities.

• Census designated places in Hawaii and Puerto Rico only.

• Federally recognized American Indian reservations and off-reservation trust lands.

• American Indian tribal subdivisions.

• State recognized American Indian reservations (submitted by a state official).

• Alaska Native Regional Corporations.

• Statistical areas defined for American Indian tribes:

• Tribal designated statistical areas;

• Alaska Native village statistical areas;

• Oklahoma tribal statistical areas;

• State designated American Indian statistical areas (submitted by a state official); and

• Hawaiian home lands (submitted by a state official).

The Census Bureau will not process challenges for any other types of statistical or legally defined areas.

4. Will the Census Bureau incorporate corrections from the CQR process into the apportionment or redistricting data or subsequent data products?

The Census Bureau will not change the apportionment or redistricting counts to reflect corrections resulting from the CQR process. In accordance with the law, apportionment counts were delivered to the President on December 28, 2000, and the counts required for redistricting were delivered to the states by April 1, 2001.

CQR corrections also will not be incorporated in subsequent data products for Census 2000. This will allow the Census Bureau to maintain consistency between data products while maintaining the schedule for timely release of the data. However, the Census Bureau will issue a revised official Census 2000 population and housing unit counts for the affected governmental entity(es), maintain a list of CQR corrected areas on the American Factfinder, and will incorporate any corrections into its Postcensal Estimates program beginning in December 2002.

Dated: June 18, 2001.
William G. Barron, Jr.,
Acting Director, Bureau of the Census.

[FR Doc. 01-16868 Filed 7-5-01; 8:45 am]

BILLING CODE 3510-07-P ­